DEPARTMENT OF COMMERCE

[Docket No. 151109999-5999-01]

Privacy Act of 1974, New System of Records

AGENCY: National Oceanic and Atmospheric Administration, U.S. Department of Commerce.

ACTION: Notice of a New Privacy Act System of Records: COMMERCE/NOAA-22, NOAA Health Services Questionnaire (NHSQ) and Tuberculosis Screening Document (TSD).

SUMMARY: In accordance with the Privacy Act of 1974, as amended, Title 5 of the United States Code (U.S.C.) sections 552a(e)(4) and (11); and Office of Management and Budget (OMB) Circular A-130, Appendix I, “Federal Agency Responsibilities for Maintaining Records About Individuals,” the Department of Commerce is issuing a notice of intent to establish a new system of records entitled, “COMMERCE/NOAA-22, NOAA Health Services Questionnaire and Tuberculosis Screening Document.” We invite the public to comment on the items noted in this publication. The purpose of this system of records is to document information related to medical clearance, which is required for all persons sailing on Office of Marine and Aviation Operations (OMAO) vessels. The National Oceanic and Atmospheric Administration (NOAA) Health Services is responsible for medically evaluating and providing clearance for persons who will be sailing on these vessels. The completed NHSQ and TSD provide specific and select medical information on individuals who wish to embark on OMAO vessels and need medical clearance. The completed forms also contain personal identifiable information that is required to be protected by the Privacy Act.

DATES: To be considered, written comments must be submitted on or before February 18, 2016. Unless comments are received, the new system of records will become effective as proposed on the date of publication of a subsequent notice in the Federal Register.

ADDRESSES: Comments may be mailed to: Director of Health Services, CAPT P. Jane Powers, 2002 SE Marine Science Drive, Newport, OR, 97365.

FOR FURTHER INFORMATION CONTACT: CAPT P. Jane Powers, 2002 SE Marine Science Drive, Newport, OR, 97365.

SUPPLEMENTARY INFORMATION: OMAO is creating a system of records for health information and other personal identifiable information required for medical clearance of individuals, both NOAA staff and others who are not employees, who plan to sail on OMAO vessels. Collection of information on the NHSQ and the TSD are consistent with the support for research and education under the National Marine Sanctuaries Act. See e.g., 16 U.S.C. 1440 and the NOAA Administrative Order 209-124.

COMMERCE/NOAA-22

System name:

COMMERCE/NOAA-22, NOAA Health Services Questionnaire (NHSQ) and Tuberculosis Screening Document (TSD).

Security classification:

None.

System location:

U.S. Department of Commerce, National Oceanic and Atmospheric Administration (NOAA), Office of Marine and Aviation Operations, 8403 Colesville Road, Silver Spring, MD 20910-3282. Satellite addresses are: NOAA Health Services-Pacific, 2002 SE Marine Science Drive, Newport, OR 97365; NOAA Health Services-Atlantic, 439 West York Street, Norfolk, VA 23510-1114.

Categories of individuals covered by the system:

Individuals who wish to embark on OMAO vessels and need medical clearance.

Categories of records in the system:

Personal Identifiable Information: name; date of birth (year only); work address; email address; position in program; home, work and cell telephone numbers; cruise dates; emergency contact (name, address and telephone number) and their relationship to the individual; names of NOAA ships NHSQ and TSD needs to be forwarded to; whether individual is regularly seeing a doctor for any reason; medications currently being taken; allergies; health problems; major surgeries/hospitalizations/emergency room visits; general/cardiac screening questions; date of last tetanus booster; functional abilities screening questions; awareness of medical condition which could affect their suitability for sea duty; type of test and result of most recent tuberculosis test; information on a previous positive skin test; date of last chest X-ray, if applicable; date of last BCG vaccine (tuberculosis vaccine), if applicable; date prescribed TB medication completed, if applicable; contact with any other person(s) infected with TB; occurrence of a positive HIV test; use of illegal intravenous drugs; any current treatment with steroids, chemotherapy, or cancer treating drugs; any incidence of homelessness; any incidence of incarceration; possession of fever, weight loss, night sweats, chronic cough, chronic fatigue, coughing up blood; statement to accuracy and truth of information provided; signature of applicant and date signed; signature of medical officer reviewing the forms; date of clearance; and any additional information supplied from the individual's medical provider(s).

Authority for maintenance of the system:

This system of records is consistent with the support for research monitoring and education under the National Marine Sanctuaries Act. 16 U.S.C. 1440) See also Office of Personnel Management regulations: 5 CFR 339.102—Purpose and Effect; 5 CFR 339.202—Medical Standards; 5 CFR 339.205—Medical Evaluation Programs; 5 CFR 339.206—Disqualification on the Basis of Medical History; 5 CFR 229.301—Authority to Require an Examination; 5 CFR part 339—Medical Qualification Determinations.

Purposes:

The records are maintained and used to fulfill OMAO's responsibility of medically clearing embarking personnel on OMAO vessels. The NHSQ and TSD system will provide medical personnel with faster access to more complete data; this will enhance their effectiveness.

Routine uses of records maintained in the system, including categories of users and the purposes of such uses:

1. Electronic NHSQ and TSD medical information is shared only with authorized users who have a legitimate need to know. These medical records, contained therein, may be disclosed as stated below:

a. A record in the medical department may be disclosed to the Department of Commerce legal department to determine legal sufficiency of a denial for embarkation or in response to litigation.

b. A record in the medical department may be disclosed in response to a court order.

c. A record in the medical department may be disclosed to other health care providers that are involved in cases concerning person(s)/employee(s) with a specific disease or injury.

d. A record in the medical department may be disclosed to the applicable medical psychiatric and/or state authority(ies) in response to statute (e.g., sexually transmitted disease, homicidal ideation, suicidal ideation, child abuse, elder abuse, etc.).

e. A record in the medical department may be disclosed to the OMAO leadership involved in the medical evaluation process.

f. A record in the medical department may be disclosed to the individual involved.

2. In the event that a system of records maintained by the Department to carry out its functions indicates a violation or potential violation of law or contract, whether civil, criminal or regulatory in nature and whether arising by general statute or particular program statute or contract, rule, regulation, or order issued pursuant thereto, or the necessity to protect an interest of the Department, the relevant records in the system of records may be referred to the appropriate agency, whether Federal, State, local, or foreign, charged with the responsibility of investigating or prosecuting such violation or charged with enforcing or implementing the statute or contract, rule, regulation or order issued pursuant thereto, or protecting the interest of the Department.

3. A record from this system of records may be disclosed in the course of presenting evidence to a court, magistrate, or administrative tribunal, including disclosures to opposing counsel in the course of settlement negotiations.

4. A record in this system of records may be disclosed, as a routine use, to a Member of Congress submitting a request involving an individual when the individual has requested assistance from the Member with respect to the subject matter of the record.

5. A record in this system of records may be disclosed to the Department of Justice in connection with determining whether the Freedom of Information Act (5 U.S.C. 552) requires disclosure thereof.

6. A record in this system will be disclosed to the Department of Treasury for the purpose of reporting and recouping delinquent debts owed the United Sates pursuant to the Debt Collection Improvement Act of 1996.

7. A record in this system of records may be disclosed to appropriate agencies, entities, and persons when: (1) It is suspected or confirmed that the security or confidentiality of information in the system of records has been compromised; (2) the Department has determined that, as a result of the suspected or confirmed compromise, there is a risk of harm to economic or property interests, identity theft or fraud, or harm to the security or integrity of this system or other systems or programs (whether maintained by the Department or another agency or entity) that relies upon the compromised information; and (3) the disclosure made to such agencies, entities, and persons is reasonably necessary to assist in connection with the Department's efforts to respond to the suspected or confirmed compromise and prevent, minimize, or remedy such harm.

Disclosure to consumer reporting agencies:

Disclosure to consumer reporting agencies pursuant to 5 U.S.C. 552a(b)(12) may be made from this system to “consumer reporting agencies” as defined in the Fair Credit Reporting Act (15 U.S.C. 1681a(f)) and the Federal Claims Collection Act of 1966 (31 U.S.C. 3701(a)(3)).

Policies and practices for storing, retrieving, accessing, retaining, and disposing of records in the system:

Storage:

NHSQ and TSD medical information is stored and maintained in electronic form in system folders and/or databases, within a controlled environment with access restricted to authorized personnel. Other medical information in a hardcopy format is stored in locked storage facilities at OMAO regional facilities or on OMAO vessels with access restricted to authorized personnel.

Retrievability:

Records are retrieved through inquires based on the name of individual or the name of the NOAA vessel.

Safeguards:

The NHSQ and TSD can only be accessed by authorized OMAO medical personnel. Access to electronic medical data will be through a secure OMAO network and requires a password for entry, which is based on DOC password standards. Passwords are granted to authorized medical personnel. Hard/completed electronic copies are stored in OMAO headquarters or regional facilities. Entry to these facilities requires an approved NOAA-issued badge and electronic access to completed NHSQs and TSDs requires proper authorization and a password. Storage within the OMAO facilities are locked and under surveillance of administrative personnel. Hard copy medical records related to NHSQ and TSD shall be stored in locked file cabinets in all regional and headquarter offices. Access to these medical records shall be limited to authorized personnel only.

Retention and disposal:

OMAO shall maintain its records in accordance with NOAA's Records Management Guide and Records Disposition Handbook. Upon closure of a case, all medical information on the case contained in the NHSQ and TSD shall be retained for at least 6 years, and destroyed 6 years after date of last entry. See National Archives and Records Administration General Records Schedule 1 Civilian Personnel Records, Section 19, Individual Non-Occupational Health Record Files: “Forms, correspondence, and other records, including summary records, documenting an individual employee's medical history, physical condition, and visits to Government health facilities, for nonwork-related purposes, EXCLUDING records covered by item 21 of this schedule. Destroy 6 years after date of last entry. (NC1-64-77-10 item 19).” http://www.archives.gov/records-mgmt/grs/grs01.html.

System manager(s) and address:

CAPT Priscilla J. Powers, Director, Health Services, 2002 SE Marine Science Drive, Newport, OR 97365.

Notification procedure:

In accordance with the Department of Commerce regulations implementing the Privacy Act, at Title 15 of the Code of Federal Regulations, part 4, subpart B-Privacy Act, individuals interested in determining if the system contains their name should direct their Privacy Act request to the National Oceanic and Atmospheric Administration, Public Reference Facility, OFA56, 1315 East West Highway (SSMC3), Room 10730, Silver Spring, Maryland 20910.

Record access procedures:

Same as Notification procedures above.

Contesting record procedures:

Same as Notification procedures above.

Record source categories:

Information that may be entered into the NHSQ and TSD will come from the following sources:

1. The individual involved in the medical record.

2. The authorized medical reviewer.

3. Other documentation submitted by medical providers of the individual.

4. Medical events that occur while on OMAO vessels.

Exemptions claimed for the system:

None.

Dated: January 12, 2016.
Michael J. Toland,
Department of Commerce, Freedom of Information and Privacy Act Officer.

[FR Doc. 2016-00834 Filed 1-15-16; 8:45 am]

BILLING CODE 3510-12-P